DEPARTMENT OF HEALTH AND HUMAN SERVICES

Health Resources and Services Administration

Agency Information Collection Activities: Proposed Collection: Public Comment Request; Questionnaire and Data Collection Testing, Evaluation, and Research for the Health Resources and Services Administration

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR must be received no later than April 24, 2017.

ADDRESSES: Submit your comments to paperwork@hrsa.gov or mail the HRSA Information Collection Clearance Officer, Room 14N-39, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference, in compliance with Section 3506(c)(2)(A) of the Paperwork Reduction Act of 1995.

Information Collection Request Title: Questionnaire and Data Collection Testing, Evaluation, and Research for the Health Resources and Services Administration, OMB No. 0915-0379—Extension.

Abstract: The purpose of collections under this generic clearance is to obtain formative information from respondents to develop new questions, questionnaires, and tools and to identify problems in instruments currently in use. This clearance request is limited to formative research activities emphasizing data collection, toolkit development, and estimation procedures and reports for internal decision-making and development purposes and does not extend to the collection of data for public release or policy formation. It is anticipated that these studies will rely heavily on qualitative techniques to meet their objective. In general, these activities are not designed to yield results that meet generally accepted standards of statistical rigor but are designed to obtain valuable formative information to develop more effective and efficient data collection tools that will yield more accurate results and decrease non-response.

Need and Proposed Use of the Information: HRSA conducts cognitive interviews, focus groups, usability tests, field tests/pilot interviews, and experimental research in laboratory and field settings, both for applied questionnaire development and for evaluation as well as more basic research on response errors in surveys.

HRSA staff use various techniques to evaluate interviewer administered, self-administered, telephone, Computer Assisted Personal Interviewing (CAPI), Computer Assisted Self-Interviewing (CASI), Audio Computer-Assisted Self-Interviewing (ACASI), and web-based questionnaires.

Professionally recognized procedures are followed in each information collection activity to ensure high quality data. Examples of these procedures could include the following:

• Monitoring by supervisory staff of a certain percent of telephone interviews;

• Conducting cognitive interviewing techniques, including think-aloud techniques and debriefings;

• Data-entry from mail or paper-and-pencil surveys will be computerized through scannable forms or checked through double-key entry;

• Observers will monitor focus groups, and focus group proceedings will be recorded; and

• Data submitted through on-line surveys will be subjected to statistical validation techniques to ensure accuracy, such as disallowing out-of-range values.

Each request under this generic clearance will specify the procedures to be used. Participation will be voluntary, and non-participation will not affect eligibility for, or receipt of, future HRSA health services research activities or grant awards, recruitment, or participation. Specific testing and evaluation procedures will be described when we notify OMB about each new request. Consent procedures will be customized for each information collection activity, but will include assurances of confidentiality and the legislative authority for the activity. If the encounter is to be recorded, the respondent's permission to record will be obtained before beginning the interview.

Screening: When screening is required (e.g., quota sampling), the screening will be as brief as possible and the screening questionnaire will be provided as part of the submission to OMB.

Collection methods: The particular information collection methods used will vary, but may include the following

• Individual in-depth interviews—In-depth interviews will commonly be used to ensure that the meaning of a questionnaire or strategy is understood by the respondent. When in-depth interviewing is used, the interview guide will be provided to OMB for review.

• Focus groups—Focus groups will be used to obtain insights into beliefs and understandings of the target audience early in the development of a questionnaire or tool. When focus groups are used, the focus group discussion guide will be provided to OMB for review.

• Expert/Gatekeeper review of tools—In some instances, tools designed for patients may be reviewed in-depth by medical providers or other gatekeepers to provide feedback on the acceptability and usability of a particular tool. This would usually be in addition to pretesting of the tool by the actual patient or other user.

• Record abstractions—On occasion, the development of a tool or other information collection requires review and interaction with records rather than individuals.

• “Dress rehearsal” of a specific protocol—In some instances, the proposed pretesting will constitute a walkthrough of the intended data collection procedure. In these instances, the request will mirror what is expected to occur for the larger scale data collection.

Likely Respondents: Respondents will be recruited by means of advertisements in public venues or through techniques that replicate prospective data collection activities that are the focus of the project. For instance, a survey on physician communication, designed to be administered following an office visit, might be pretested using the same procedure. Each submission to OMB will specify the specific recruitment procedure to be used.

Burden Statement: Burden in this context means the time expended by persons to generate, maintain, retain, disclose, or provide the information requested. This includes the time needed to review instructions; to develop, acquire, install, and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Type of information collection | Number of respondents | Number of responses per respondent | Total responses | Average burden per response (in hours) | Total burden hours
Mail/email ¹ | 1,666 | 1 | 1,666 | 0.25 | 416.5
Telephone | 1,666 | 1 | 1,666 | 0.25 | 416.5
Web-based | 1,666 | 1 | 1,666 | 0.25 | 416.5
Focus Groups | 1,666 | 1 | 1,666 | 1.0 | 1,666
In-person | 1,666 | 1 | 1,666 | 1.0 | 1,666
Automated ² | 1,666 | 1 | 1,666 | 1.0 | 1,666
Cognitive Testing | 5,000 | 1 | 5,000 | 1.41 | 7,050
Total | 14,996 |  | 14,996 |  | 13,298
¹ May include telephone non-response follow-up in which case the burden will not change.
² May include testing of database software, CAPI software, or other automated technologies.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jason E. Bennett,
Director, Division of the Executive Secretariat.

[FR Doc. 2017-03342 Filed 2-17-17; 8:45 am]

BILLING CODE 4165-15-P